DEPARTMENT OF COMMERCE

International Trade Administration

Extension of Time Period to Apply for Membership on the U.S.-Korea Committee on Business Cooperation

AGENCY: International Trade Administration, Commerce.

ACTION: Notice.

SUMMARY: On January 10, 2000, the Department of Commerce published a notice in the Federal Register (Vol. 65, No. 6, Monday, January 10, 2000, page 1357) seeking applications for membership on the U.S. side of the U.S.-Korea Committee on Business Cooperation (CBC). The purpose of the CBC is to make recommendations to the governments of the United States and South Korea on ways to facilitate stronger commercial ties between the U.S. and South Korea. This is accomplished by undertaking work programs, reporting on the results, and presenting written recommendations to the two governments. The CBC is co-chaired by the U.S. Secretary of Commerce and the South Korean Minister of Commerce, Industry and Energy. Its activities are undertaken by an equal number of private sector representatives from the United States and South Korea. This notice extends the time to apply for membership on the U.S. private sector side of the CBC until March 31, 2000.

Membership Opportunity: The CBC will expire January 1, 2001, but may be renewed upon the mutual agreement of the U.S. and Korea. Applications are now being sought for U.S. private sector members to serve beginning immediately and until January 1, 2001. Private sector members will serve at the discretion of the Secretary of Commerce. They are expected to participate fully in defining and implementing CBC work programs, reporting on the results, and presenting written recommendations to the two governments. It is expected that private sector individuals chosen for the CBC will attend at least 75% of CBC meetings, which are held alternately in the U.S. and South Korea. It is expected that the next meeting will take place in Washington, D.C.

It is further expected that the U.S. private sector members will provide a secretariat to support the activities of the U.S. side of the CBC. The tasks of the Secretariat shall include, but not be limited to, the following:

A. Maintain the membership list;

B. Perform organizational matters in connection with the meetings of the CBC and its working groups, if such are formed, including but not limited to, logistics, agendas and reports;

C. Perform other administrative duties that might arise between meetings; and

D. Prepare the written report to the Co-Chairs making recommendations on ways to enhance bilateral commercial relations.

Private sector members are fully responsible for travel, living and personal expenses associated with their participation in the CBC, and may be responsible for a pro rata share of administrative and communications costs relating to the CBC, including, as appropriate, the costs of a secretariat to manage administrative and logistical matters relating to the operation of the CBC. The private sector members will serve in a representative capacity presenting the views and interests of the particular business sector in which they operate, not those of their individual firms. Private sector members are not special government employees.

Objectives: The objectives of the CBC are as follows:

A. Identifying commercial opportunities, impediments, and issues of concern to the business communities in the U.S. and Korea;

B. Improving the dissemination of appropriate commercial information on both markets; and

C. Adopting sectoral approaches to addressing specific problems, and making recommendations to decision-makers.

Membership Criteria: An applicant must be:

• A U.S. citizen residing in the United States; and

• Not a registered foreign agent under the Foreign Agents Registration Act of 1938 (FARA).

In reviewing eligible applicants, the Department of Commerce will consider:

• Experience in doing business in South Korea;

• Readiness to initiate and be responsible for activities in which the CBC will be active; and

• Contribution to CBC diversity (i.e. company size, type, location, demographics and/or traditional under-representation in business).

The Department of Commerce will also give preference to primary companies involved in manufacturing and services.

To be considered for membership, please provide the following: (1) Name and title of the individual requesting consideration; (2) name and address of the company or organization sponsoring each individual; (3) company's product or service line; (4) size of the company; (5) export experience and major markets; (6) a brief statement of why each candidate should be considered for membership on the CBC; (7) the particular segment of the business community each candidate would represent; (8) a personal resume; and (9) a statement signed by the applicant that he or she is a U.S. citizen residing in the United States and not a registered foreign agent under FARA. Up to two applicants from the same organization can be considered.

DEADLINE: The earlier notice provided that requests needed to be received by the Department of Commerce not later than February 18, 2000. This notice extends the period for the receipt of applications until March 31, 2000.

ADDRESSES: Please send your requests for consideration to Philip R. Agress, Director, Office of Korea and Southeast Asia, U.S. Department of Commerce, Room 2036, 14th St. and Constitution Ave., N.W., Washington, D.C. 20230, fax (202) 482-4760.

FOR FURTHER INFORMATION CONTACT: Linda Droker, Director, Korea and Taiwan Affairs, U.S. Department of Commerce, Room 2323, 14th St. and Constitution Ave., N.W., Washington, D.C. 20230, telephone (202) 482-3876, fax (202) 482-3316.

Authority: 15 U.S.C. 1512.

Dated: February 28, 2000.
Franklin J. Vargo,
Deputy Assistant Secretary for Asia and the Pacific.

[FR Doc. 00-5335 Filed 3-3-00; 8:45 am]

BILLING CODE 3510-DA-P